DEPARTMENT OF HOMELAND SECURITY

6 CFR Part 27

8 CFR Parts 270, 274a, and 280

Coast Guard

33 CFR Part 27

Transportation Security Administration

49 CFR Part 1503

[Docket No. DHS-2016-0034]

RIN 1601-AA80

Civil Monetary Penalty Adjustments for Inflation

Correction

In rule document 2016-15673, appearing on pages 42987-43006 in the issue of Friday, July 1, 2016, make the following correction:

PART 274a—CONTROL OF EMPLOYMENT OF ALIENS [Corrected]

1. On page 43002, in the first column, on the nineteenth line, amendatory paragraph number 6, appearing in PART 274a, that reads “■ 6. In § 4a.8, revise (b) to read as follows:” is corrected as set forth below:

6. In § 274a.8, revise (b) to read as follows:

[FR Doc. C1-2016-15673 Filed 9-8-16; 8:45 am]

BILLING CODE 1505-01-D